DEPARTMENT OF AGRICULTURE

Office of the Secretary

Uniform Guidelines for Conducting Farm Service Agency County Committee Elections

AGENCY: Department of Agriculture.

ACTION: Notice.

SUMMARY: The Secretary of Agriculture (the Secretary) published in the Federal Register on August 17, 2004 proposed uniform guidelines for conducting elections of Farm Service Agency (FSA) County Committees, pursuant to section 10708 of the Farm Security and Rural Investment Act of 2002 (Pub. L. 107-171) (the 2002 Farm Bill). The notice provided a thirty-day period for public comments. As a result of numerous requests, the public comment period was extended until October 16, 2004, in a Federal Register notice published September 22, 2004. After analysis of the comments received, the Secretary is now issuing the final uniform guidelines for conducting FSA County Committee elections.

DATES: Effective Date: January 18, 2005.

FOR FURTHER INFORMATION CONTACT: Ken Nagel, Administrative Management Specialist, Office of the Deputy Administrator for Field Operations, FSA, at (202) 720-7890, or at Ken.nagel@usda.gov. Persons with disabilities who require alternative means for communication (Braille, large print, audiotape, etc.) should contact the USDA Target Center at (202) 720-2600 (voice and TDD).

SUPPLEMENTARY INFORMATION: The Secretary is issuing uniform guidelines pursuant to the 2002 Farm Bill in order to ensure that FSA County Committees are fairly representative of the agricultural producers covered by the relevant county or counties, including fair representation of socially disadvantaged (SDA) farmers and ranchers. The guidelines address County Committee election outreach efforts, procedures for nomination and election of County Committee members, and reporting and accountability requirements. FSA will be required to follow such guidelines in conducting FSA County Committee elections. The Federal Register notice in which the proposed guidelines were issued provides additional information on the background and intent of the guidelines. That notice also stated that, to the extent possible, the proposed guidelines would be followed in preparation for the 2004 County Committee election process while comments were being reviewed.

USDA received 352 comments on the proposed uniform guidelines. About 65 percent of the respondents objected to the issuance of any guidelines, although many of these general complaints also contained objections to specific provisions. About 11 percent of the respondents agreed with all the proposed guidelines, and 24 percent commented on only specific provisions. In general, those respondents disagreeing with the proposed uniform guidelines believe that the FSA County Committee election process used in previous elections is fundamentally sound, and they wish to revert to the procedures used prior to the publication of the proposed guidelines. The majority of the specific objections were to the appointment of at-large members by the Secretary to represent the interest of SDA farmers and ranchers, nomination of candidates for County Committees by the Secretary, reduction of term limits for County Committee members from 3 to 2 terms, the mailing of ballots by voters directly to State offices, and increased centralization of the election process. Many of the comments received with these objections appear to be based on a form letter provided to County Committee members and employees from the National Association of Farmer Elected Committeemen. The American Corn Growers, National Association of Wheat Growers, National Cotton Council, National Farmers Organization, National Grange, and Women Involved in Farm Economics filed a joint letter with similar objections. Other individuals interested in County Committee elections also filed comments opposing all or specific sections of the proposed uniform guidelines.

Many of the supporters of the proposed uniform guidelines consisted of member organizations of the Rural Coalition. Other supporters of specific sections of the proposed uniform guidelines were the Minority Agricultural Producers Cooperative, the Twin Rivers Cooperative, the National Tribal Development Association, and the Farmers Legal Action Group. Individuals interested in County Committee elections also filed comments supporting all or specific sections of the proposed uniform guidelines; whoever, fewer individuals filed supporting comments than opposing comments.

While USDA received more negative than positive comments, section 10708 of the 2002 Farm Bill grants discretion to the Secretary to issue uniform guidelines if the Secretary determines they would be necessary. After evaluating the nationwide results of the County Committee elections, the Secretary decided that issuing uniform guidelines was warranted. The comments received have not changed this basic determination. The Secretary has, however, taken the logical course of action of addressing, and in some cases modifying, those specific provisions that drew significant numbers of comments.

A large number of comments concerned the Secretary's option under the 2002 Farm Bill to issue provisions allowing for the appointment of a member representing the interests of SDA farmers and ranchers to particular committees. However, the uniform guidelines do not contain any provisions for the appointment of an SDA voting member. What the guidelines do state is that the Secretary may consider whether to issue written provisions providing for such appointments. Such a determination would only be made after a complete analysis of the results of future County Committee elections. If it is determined that such provisions should be issued, proposed written provisions on County Committee appointments will be published in the Federal Register with an opportunity for public comment before any such appointments would be made. The public comments already made on this issue will also be reexamined at that time.

Many comments were received regarding nomination by the Secretary of candidates if no nominations are received during the official nomination period, or if the Secretary determines that it is appropriate to nominate additional candidates in order to ensure fair representation. Those objecting to this policy asserted that such a procedure could politicize the nomination process or would not be in accord with the original intent of Congress in creating locally elected County Committees. These objections must be examined in light of the language and intent of the 2002 Farm Bill as well. It is clear that Congress intended that there should be changes in the County Committee election system when it enacted section 10708 of the 2002 Farm Bill. Specifically, section 10708 directs the Secretary to take steps to enhance the opportunities for SDA candidates to be nominated and elected to County Committees. Providing the Secretary with the authority to make nominations in limited circumstances is a tool to reach this goal. As a matter of practical consideration, since the Secretary would turn to local sources such as community-based organizations or the County Committee members themselves as a source of candidates, it is unlikely that the partisan affiliation of such candidates would be considered by the Secretary. Finally, FSA County Committees by reaching out to SDA producers and the groups representing SDA interests, can create a climate in which an appropriate level of SDA participation is generated. This will negate the necessity for the Secretary to nominate candidates in the first place. In light of these considerations, the Secretary will leave the provisions for Secretarial nominations contained in the proposed guidelines, though a technical correction in language was made to this provision.

Some respondents objected to a review of local administrative area (LAA) boundaries by the FSA national office in order to determine if redrawing such boundaries would assist in ensuring the fair representation of SDA producers. Commenters asserted that FSA County Committees have handled this process well for over 50 years, and that such boundary changing might introduce partisan bias into county elections. These objections must be considered in light of the realities of drafting LAA boundaries. First, the regulations contained in 7 CFR part 7 are being revised to contain more specific, neutral criteria that will guide FSA State and County Committees in their annual reexamination of LAA boundaries. The general standards governing the redistricting of national, State, and local legislative districts have evolved considerably since the 1930's as a result of the Voting Rights Act and the one-person, one vote decisions by the United States Supreme Court. While the Voting Rights Act and the one person, one vote standard may not apply directly to the drafting of FSA County Committee LAAs, generally accepted neutral redistricting criteria should be considered in drafting those LAAs. Even without guidelines on this issue, FSA State committees will continue to exercise oversight of this process. Nonetheless, the Secretary's authority regarding County Committees includes providing proper oversight to ensure that the criteria contained in the regulation are being applied. Finally, any examination and possible adjustment of LAA boundaries at the national level would be conducted by career staff, and would not result in changes unless the criteria contained in the regulation is determined to have been violated. Even then, any new boundaries would be subject to the same neutral criteria contained in the regulations.

A suggestion from a respondent that any proposal to re-draw LAA boundaries should include some mechanism for soliciting input from the public is well advised. Provisions of this type are already contained in the guidelines and any objections can be presented to the FSA State committees and considered by the State committees as part of their LAA redistricting approval process. As a result of this suggestion, however, provisions for such reviews will be strengthened in the final guidelines.

Suggestions were also made that County Committee members should be elected at-large. Such at-large elections might have the effect of diluting the voting strength of SDA producers and, thereby, might reduce the likelihood of election of SDA committee members. The uniform guidelines do provide that the Secretary may consider the use of at-large seats for certain County Committees in the future; however, the Secretary has determined not to use such at-large seats at this time. In light of all these considerations, except for a strengthening of the ability of the public to comment on proposed LAA boundary changes, the uniform guideline provisions concerning LAA boundaries have been left unchanged in the final guidelines.

Many respondents opposed reducing term limits from the current three-term limit to two terms. The most common reason given was the loss of institutional knowledge, along with the length of time required to properly train members in the programs administered by FSA. Those supporting the proposed guideline on this issue were concerned that many sitting County Committee members had been serving for too many years. Due to the reorganization of USDA, the term limit baseline had been reset in 1995 for all sitting County Committee members. This has resulted in many members having served on a County Committee well in excess of the 9 years mandated by the present 3-term limit. Such persons were not eligible to seek election in 2004, and the remainder will be barred from reelection in 2005 and 2006 as their LAAs rotate through the tree-year staggered election cycle. Since a term limit is neutral in terms of SDA status and could, therefore, be a detriment to presently sitting SDA committee members, a determination has been made to retain the current three-term limit. The final guidelines also clarify that an individual may not serve more than three consecutive terms or portions of terms.

A majority of those commenting on the provision to conduct annual reviews of County Committee elections supported annual reviews. Some respondents, however, were opposed to such reviews because, in their view, they are based on a perceived lack of trust of the administration of the election process by local FSA County Committees. Section 10708 of the 2002 Farm Bill continues to require the Secretary to ensure that participation by SDA producers and all other producers are fairly represented on FSA County Committees. Conducting annual reviews is one of many tools that the Secretary may use to ensure that there is such fair representation. Annual reviews also will ensure that all election procedures are followed in a uniform manner nationwide and that they are understood by County Committees and county office staff.

A substantial number of comments opposed the provision that requires that all marked ballots be returned directly to FSA State offices, and then be returned in sealed ballot boxes for public canvassing by the County Committees. Primary concerns were the potential for problems in collection and shipping of ballots by State offices and the added burden to State office staff. Concerns were also expressed that this procedure could politicize these elections, and that County Committees have conducted completely transparent elections in the past.

There is no reason to assume that career Federal employees handling ballots at the State office would be any more likely to inject political partisanship into the process of placing ballots received in the mail into sealed ballot boxes. It is important to note that County Committee election ballots, returned by mail or in person, are sealed within a return envelope that has been signed by the voter. At the time that the votes are counted, all these return envelopes are emptied out of the ballot box. The eligibility of each voter to cast a vote is then determine by checking the signature on the return envelope against the official list of eligible voters. If the voting is determined to be proper, then the sealed ballots of the eligible voters contained within the return envelopes are then co-mingled without identification. The ballots themselves are then opened and counted. While it is certainly true that the great majority of County Committee elections have been handled properly, it is not common election procedure that persons who may be directly working for those standing for election should be handling ballots that are identified by name. It is for this reason that the mailing back of all ballots to the State offices was contained in the proposed guidelines. The procedure was tested in the 2004 County Committee election for 300 targeted counties. After review of this pilot project, FSA determined that this procedure was manageable for about 300 to 500 County Committee elections, but probably would be impractical for all County Committee elections. For this reason, the decision has been made to require ballots to be mailed directly to State offices only at the request of a candidate, or when the Secretary determines that this procedure is necessary in any specific county. In all other cases, voters will return their ballots directly to their respective county offices.

The provision requiring that nomination forms be mailed to all eligible voters was supported in a majority of the comments. Supporters did not necessarily recommend a specific mailing be conducted, but expressed greater support that nomination forms should be included with a newsletter or some other mailing. Those in opposition to the mailing of nomination forms felt that the process would not be productive in gaining additional nominations.

It has been decided to require State and county newsletters, or any mailing announcing County Committee elections, to include a nomination form and instructions, but not to require a special mailing of nomination forms alone. The final guidelines also require that nomination forms be readily available on the FSA Internet site and publicly accessible in all USDA Service Centers. Reproducible versions of the nomination forms will also be mailed to FSA outreach partners.

Some respondents opposed centralized ballot production and mailing because of the additional costs they believed were involved in this new process, the problems encountered in the 2003 County Committee elections, and the assertion that the entire election system in the United States is county-based and administered and should not be centralized. Additional objections to centralized ballot production were based on the understanding that FSA has moved to this system because FSA management believed that county officers are not capable of administering and conducting fair and unbiased elections and that they believe that county office staffs should conduct all phases of the election process. Some supporters of increased centralization of the County Committee election process commented that they felt there has been, in some cases, significant local bias and unfairness in the manner in which these elections have been conducted, and that they would like the entire process to be removed from the hands of FSA county office staff.

The driving force behind the centralization of ballot printing and mailing is cost saving and efficiency. Furthermore, the maintenance of accurate and complete lists of USDA customers is an integral part of FSA's operations. Improvement of the accuracy of, and secure internal access to, FSA producer and other files will allow FSA and the entire Department to implement effective e-government programs and to better service the needs of USDA's customers. It should be noted that the process of centralization of ballot printing has uncovered significant instances in which lists of eligible voters were either outdated or contained serious errors. It should be further noted that election administrators in the United States are currently using central production and mailing of ballots for far more complex elections. Use of this procedure is in no way based on any evaluation of either the level of fairness or bias under which elections are conducted by county office staff. The Secretary has maintained this provision in the final guidelines.

Another change to the final uniform guidelines concerns who may receive a list of eligible voters. Pursuant to the Privacy Act, FSA issued a Privacy Act System of Records notice that pertains, in part, to the release of information about producers eligible to vote in FSA County Committee elections. This notice authorizes the disclosure of voters' names and addresses to candidates. The regulations contained in 7 CFR part 7 only provide for the release of voter names. This does not give candidates the ability to communicate effectively with eligible voters. Both the final guidelines and the regulations will be revised to allow the release of voter names and addresses to candidates. All other eligible voters will only be entitled to review a list of the voter names.

The remaining changes to the final guidelines are minor changes of some of the dates in the guidelines.

Accordingly, USDA hereby issues Uniform Guidelines for Conducting FSA County Committee Elections, as follows:

Secretary of Agriculture—Uniform Guidelines for Conducting Farm Service Agency County Committee Elections

Pursuant to section 10708 of the Farm Security and Rural Investment Act of 2002, (Pub. L. 107-171)(7 U.S.C. 2279-1), the Secretary of Agriculture is issuing the following uniform guidelines for conducting elections to County Committees of the Farm Service Agency (FSA), United States Department of Agriculture (USDA). The purpose of such guidelines is to ensure that such County Committees are fairly representative of the agricultural producers covered in the relevant county or counties, including to ensure fair representation of socially-disadvantaged (SDA) farmers and ranchers on such committees, as well as to ensure public transparency and accountability of the election process.

Accordingly, the Farm Service Agency (FSA) shall conduct elections of members to FSA County Committees in accordance with the following guidelines.

I. County Committee Election Outreach and Communication Efforts

A. FSA will ensure that outreach efforts are taken at the National, State, and local levels to ensure the fair representation of agricultural producers in a given county or area, including fair representation of SDA farmers and ranchers. Such efforts must be designed to increase the participation of eligible producers in the County Committee election process.

B. Each FSA county office will work with the State office to prepare an outreach plan, with specific steps that the county office will take on a year-long basis to increase the participation of producers generally and SDA producers specifically. A report detailing county office outreach efforts shall be submitted to the Office of the Deputy Administrator for Field Operations, FSA, 30 days prior to the end of the nomination period.

C. FSA county and State offices, with guidance from the FSA national office, will prepare a list of group contacts with which FSA will work on its outreach efforts. Such group contacts should include, as appropriate, land grant colleges, historically black colleges and universities, Hispanic-serving institutions, tribal colleges, American Indian tribal organizations, community-based organizations, civic or charitable organizations, faith-based organizations, groups representing minorities and women, groups specifically representing the interest of SDA producers, and similar groups and individuals in the community.

D. FSA county and State offices will either develop partnerships with the group contacts or work with them on outreach efforts as appropriate to assist FSA in outreach efforts to SDA producers. County and State offices will also ensure that all groups contacts are provided with all appropriate election materials on a timely basis, including fact sheets, posters, brochures, and nominations forms.

E. FSA State Outreach Coordinators, State Communications Coordinators, Field Public Affairs Specialists, and other relevant State Office personnel shall work together in developing and implementing State communications plans for the election process.

F. FSA county offices shall ensure maximum publicity to remind and inform SDA farmers and ranchers of both the nomination and the election deadlines. FSA county offices shall ensure that all written election material is available in the county office, is prominently displayed and disseminated in the local area, and is provided to all group contacts. FSA shall ensure that all communications on the election process are available in languages other than English and in alternative formats when appropriate. County Committee election communications materials (nomination forms, fact sheets, posters, etc.) shall be posted on FSA's Web site at: http://www.fsa.usda.gov/pas/publications/elections/

G. County offices shall ensure that information relating to elections is widely communicated, including the use of traditional and non-traditional media outlets. Media outlets should include television, radio, public service announcements, SDA organization newsletters, and other minority publications.

H. FSA county offices, as monitored by FSA State offices and State committees, shall actively locate and recruit eligible candidates identified as SDA farmers and ranchers as potential nominees for the County Committee elections using any reasonable means necessary. FSA shall work with leaders within the SDA community to identify eligible nominees. Community leaders who are eligible producers should be encouraged to become candidates for County Committee membership.

I. FSA State offices shall ensure that county offices are taking all appropriate outreach and communication efforts, including follow-up visits to county offices.

J. The FSA national office shall provide specific written guidance to State and county offices on County Committee election outreach and communication efforts. The national office shall also develop partnerships with appropriate national organizations to assist in outreach efforts. The national office shall work closely with the Office of the Assistant Secretary for Civil Rights in developing and implementing outreach policy and activities.

II. County Committee Election Procedures

A. Local Administrative Areas

1. County Committees shall continue to annually review and provide State Committees with proposed changes in local administrative area (LAA) boundaries within each FSA county office jurisdiction no later than April 1 of each year. County Committees shall ensure that any LAA changes are in effect no later than June 15 of each year. Each FSA county office shall post proposed changes in the LAA boundaries in the count office, as well as locally publicize such boundaries in a county office newsletter and local media to the extent practicable. The county office shall ensure that adequate time is available for comments by eligible voters to be received before the proposed LAA boundaries are considered for approval by the State Committee.

2. The FSA national office shall provide guidelines to County Committees on how to conduct the annual review of LAA boundaries. Such guidelines shall require the County Committees, in conducting the annual review of LAA boundaries, to determine whether redrawing the LAA boundaries or increasing the number of LAAs in a given area will assist in ensuring the fair representation of SDA producers in the area over which the committee has jurisdiction.

3. If a County Committee determines that LAA boundaries should be redrawn or that the number of LAAs should be changed, the FSA State Committee must approve any such determination before such a change is implemented.

4. Apart from the annual review of LAAs by County Committees, the FSA national office and State Committees shall conduct annual reviews of selected County Committees in order to determine whether redrawing the LAA boundaries or increasing the number of LAAs in a given area will assist in ensuring the fair representation of SDA producers in the area over which the committee has jurisdiction. The FSA national office and State Committees shall select such County Committees for annual reviews when they deem such reviews are appropriate based on evidence of possible under representation of SDAs on a given County Committee. Any proposed change in LAAs will be open to public comment before such change is implemented.

5. Each FSA office shall post the final LAA boundaries in the county office, as well as locally publicize such boundaries in a county office newsletter and local media.

B. Eligible Voters

1. County Committees shall maintain in the county office no later than June 15 of each year a current and updated list of eligible voters for each LAA conducting an election during the year. Any eligible voter may review a list of the names of eligible voters and the County Committees shall provide a list of names and addresses of eligible voters to any candidate requesting the list. County Committees shall maintain updated lists of eligible voters throughout the nomination and election period. Any person may contact a county office, either in person or in writing, in order to ascertain whether they are on the eligible voters list.

2. Any producer deemed to be ineligible to vote or who is not on the list of eligible voters who believes that he or she should be on the list may file a written challenge with the County Committee at any time. The County Committee must provide a response to the challenge within 15 calendar days. If the County Committee denies the challenge, the producer may appeal such denial to the State Committee.

3. The County Committee shall provide to the State Committee a report of any producer who the County Committee has specifically declared ineligible as a voter. The State Committee may overturn any ineligibility determination and direct that the County Committee add that producer to the list of eligible voters.

C. Nominations

1. Nomination forms shall be directly mailed to every eligible voter no later than June 15 of each year. Such nomination forms may be mailed to eligible voters by including the form as part of the mailing of an FSA State or county newsletter mailed to producers.

2. Nomination forms shall be easily accessible to the public, including on the FSA Internet site year round. Nomination forms shall be readily available at FSA county offices and provided to the public upon request. The FSA State and county offices shall provide reproducible nomination forms to all of their group contacts.

3. The official nominating period for County Committee election candidacy shall run for 6 weeks after the official opening date.

4. Individuals desiring to file a nomination may nominate themselves or may nominate another eligible candidate. Nominees, whether self nominated, or nominated by another, must attest to their willingness to serve by signing the nomination form. Organizations representing SDA farmers and ranchers may nominate any eligible candidate.

D. Slate of Candidates

1. If at least one nomination for candidacy is filed for an LAA for the County Committee election, the County Committee shall not add names to the slate of candidates after the close of the nomination period.

2. If no nominations are filed for a particular County Committee seat, FSA shall notify the Secretary of this fact, and the Secretary may nominate up to two individuals for the slate. If the Secretary chooses not to exercise this authority, or only nominates one individuals, the State Committee may nominate up to two individuals for the slate. If there are less than two nominees on the slate after the Secretary and the State Committee determine whether to make any nominations, the County Committee shall ensure that the slate is filled with two nominees.

3. Write-in candidates shall be accepted on ballots. The write-in candidate must meet eligibility criteria and attest to willingness to serve prior to being certified as a member or alternate member. Write-in candidates may serve as County Committee members or as alternates depending on the number of votes received.

4. Notwithstanding the above guidelines, the Secretary may nominate an eligible SDA producer to a slate regardless of whether any nominations have been filed. A nomination by the Secretary may include the current advisory for the County Committee.

E. Balloting and Vote Tabulation

1. Ballots shall be mailed to all eligible voters contained in the County Office records in the LAA conducting the election. Ballots shall be mailed no less than 4 weeks prior to the date of the election. Ballots will be printed and mailed to eligible voters from a central location. Ballots shall be provided to anyone requesting a ballot. Voter eligibility shall be determined prior to tabulating the votes. Ballots shall state the date, time, and location that votes will be counted.

2. County Committee elections will be held the first Monday of December each year, unless announced otherwise. Voters shall mail or deliver ballots to the FSA county office. Ballots, if mailed, must be postmarked by the election date or, if hand delivered, received by the election date. The county office shall provide a sealed ballot box into which ballots received shall be immediately deposited.

3. There shall be a 10 calendar day advance notice to the public of the date of the vote counting. Ballot opening and vote counting shall be fully open and readily accessible to the public. The seal on the ballot box shall not be broken prior to the public ballot counting.

4. When requested by a nominee, or when deemed necessary by the Secretary in a given county, voters shall mail ballots to the FSA State Office, rather than the county office. The FSA State office shall then deliver the ballots in a sealed box to the FSA county office. The seal on the ballot box from the State office shall not be broken except at the public ballot counting.

F. Challenges

1. Any nominee shall have the right to challenge an election in writing, in person, or both within 15 calendar days after the results of the election are posted. Appeals to the election shall be made to the County Committee, which will provide a decision on the challenge to the appellant within 7 calendar days. The County Committee's decision may be appealed to the State Committee within 15 calendar days of receipt of the notice of the decision if the appellant desires.

2. In the event that an election is nullified as a result of an appeal or an error in the election process, a special election shall be conducted by the county office and closely monitored by the FSA State office. A special election shall be held according to the processes for a regular election, but with different dates.

G. Term Limits

1. No member of a County Committee may serve more than three consecutive three-year terms. A member will be considered to have served a term if that member served for a period of one and one-half years, or greater, of that term. This provision shall take effect with the 2005 election and will be applied retroactively to any prior terms served by those persons seeking office in the 2005 election.

III. Reporting and Accountability Requirements

A. Not later than 20 days after the date an election is held, each County Committee shall file an election report on the results of the election with the FSA State and national offices. The FSA national office shall provide specific guidance to county offices on the form and contents of this report. At a minimum, the report must include:

1. The number of eligible voters in the LAAs conducting the election;

2. The number of ballots cast by eligible voters (including the percentage of eligible voters that cast ballots);

3. The number of ballots disqualified in the election;

4. The percentage that the number of ballots disqualified is of the number of ballots received;

5. The number of nominees for each seat up for election;

6. The race, ethnicity, and gender of each nominee, and

7. The final election results (including the number of ballots received by each nominee).

B. After each election, the FSA national office shall compile the county election reports into a national election report to the Secretary. The national election report shall also be available to anyone requesting a paper copy of the report and also shall be posted to the FSA Web-site. the national election report shall include election data on SDA County Committee representation by county.

C. Not later than 90 days after the date an election is held, each County Committee shall file a separate written election reform report with the FSA State and national offices detailing its efforts to comply with the uniform guidelines and FSA regulations and directives on County Committee elections. This report must contain a detailed description of county office outreach efforts. The FSA national office shall provide specific guidance to the county offices on the form and contents of this report.

D. Based on the county election reports and the county election reform reports, the FSA national office shall provide feedback and guidance to FSA county and State offices on the election process, including outreach efforts. The FSA national office shall also, based on its review of the county election reform reports, as well as its analysis of the data on SDA representation, submit an annual report to the Secretary on election reform efforts, including recommendations on further improvements in the County Committee election process.

IV. Additional Election Reform Efforts

A. USDA shall consider additional efforts to ensure such fair representation. Such additional efforts may include, but are not limited to, compliance reviews of selected counties by FSA's and USDA's Offices of Civil Rights; consideration of at-large seats or cumulative voting for certain County Committees; further centralization of the election process; and the issuance of provisions allowing for the appointment of an SDA voting member to particular committees pursuant to the 2002 Farm Bill.

V. Implementation of Uniform Guidelines

A. The FSA national office shall ensure that it issues all appropriate regulations, instructions, directives, notices, and manuals to implement the terms of these uniform guidelines.

B. FSA shall institute a comprehensive monitoring process, including spot checks on selected counties, to ensure compliance with these guidelines and FSA regulations and directives on the County Committee process.

C. The FSA national office shall ensure that appropriate training of FSA county offices, including County Committees, is conducted on the implementation of these guidelines and on FSA's regulations and directives on the County Committee election process.

D. These uniform guidelines shall take effect immediately.

Signed in Washington, DC, January 12, 2005.
Ann Veneman,
Secretary of Agriculture.

[FR Doc. 05-933 Filed 1-14-05; 8:45 am]

BILLING CODE 3410-05-M